DEPARTMENT OF JUSTICE

Notice of Lodging of Consent Decree Pursuant To the Clean Water Act

Notice is hereby given that on May 5, 2010, a proposed Consent Decree in United States v. Washington Beef LLC, Civ. A. No. 10-cv-03025-EFS was lodged with the United States Court for the Eastern District of Washington. The facility at issue is the Washington Beef complex slaughterhouse located in Toppenish, Washington. This is a civil action for injunctive relief and civil penalties under Section 309(b) and (d) of the Clean Water Act, 33 U.S.C. 1319(b) and (d), and for violations of Section 301 (a) of the Clean Water Act, 33 U.S.C. 1311(a). The Complaint alleges that Defendant is liable for unauthorized discharges from one of its outfalls, violations of permit effluent limits and, violations of its permit due to its failure to properly monitor and report the quality of its effluent.

Pursuant to the proposed Consent Decree, Defendant will pay to the United States a civil penalty of $750,000 to resolve the claims alleged in the Complaint. The Consent Decree requires certain injunctive relief including installation of five new pieces of equipment including a new sequential batch reactor.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Washington Beef LLC, Civ. A. No. 10-cv-03025-EFS (Eastern District of Washington), Department of Justice Case Number 90-5-1-1-09414.

During the public comment period, the Consent Decree may be examined at the Office of the United States Attorney, Eastern District of Washington, 920 West Riverside Avenue, Spokane, WA 99201. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Maureen Katz,
Assistant Chief, Environmental Enforcement Section, Environment and Natural Resources Division.

[FR Doc. 2010-11114 Filed 5-10-10; 8:45 am]

BILLING CODE 4410-15-P